DEPARTMENT OF VETERANS AFFAIRS

[OMB Control No. 2900-0465]

Agency Information Collection Activity Under OMB Review: Student Verification of Enrollment

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection revision should be sent within 30 days of publication of this notice to www.reginfo.gov/public/do/PRAMain. Find this particular information collection by selecting “Currently under 30-day Review—Open for Public Comments” or by using the search function. Refer to “OMB Control No. 2900-0465.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0465” in any correspondence.

SUPPLEMENTARY INFORMATION:

Authority: Section 3680(g); Public Law 96-342 Section 903; Title 10 U.S.C., National Call to Service; Chapter 31 Section 510; Title 38 U.S.C., Chapters 30, 32, 33, 35, and Title 10 U.S.C., Chapter 1606.

Title: Student Verification of Enrollment, VAF 22-8979.

OMB Control Number: 2900-0465.

Type of Review: Revision of a currently approved collection.

Abstract: The VA uses the information requested by this collection to determine the eligible beneficiaries' continued entitlement to benefits. The collection of this information is essential for the administration of these programs. The student is required to submit the verification on a monthly basis to allow for a frequent, periodic release of payment. Without this information, VA could not pay eligible beneficiaries benefits based on their proof of attendance and/or change(s) in their enrollment. Information technology is being used to collect the information provided on this form. Individuals receiving benefits under chapter 33 do not have to verify their attendance. Chapters 30 and 1606 respondents must submit this information electronically using either the automated telephone system or the internet. The information is provided via the Toll-free automated telephone number using Interactive Voice Response technology (IVR). If the information is provided via the internet, it is collected via the Web Automated Verification of Enrollment (WAVE) system. Only respondents receiving education benefits under chapter 32 or 35, or section 903, who are enrolled in NCD programs receive the paper form. The VA extracts claimant information electronically from education data resources and places it into the appropriate blocks of VA Form 22 8979. The VA then sends the printed form for chapters 32 and 35, as well as section 903 to respondents during computer generated monthly mailings. Majority of the individuals enrolled in NCD programs verify their attendance using the Toll-free customer service number (1-888-442-4551) instead of returning the form. The number of respondents who complete and return the paper form is insignificant. Collection of this information on a monthly basis will prevent overpayment of benefits due to late reporting, since payment will not be made until the report of attendance has been returned to VA and processed. To collect information less often would preclude VA from making monthly payments as required under existing regulations. This collection submission results in an increase in burden. The change in the burden is due to an increase in the number of respondents for periods 2019, 2020 and 2021.

An agency may not conduct or sponsor, and a person is not required to respond to a collection of information unless it displays a currently valid OMB control number. The Federal Register Notice with a 60-day comment period soliciting comments on this collection of information was published at 87 FR 74698 on December 6, 2022, page 74698.

Affected Public: Individuals and Households.

Estimated Annual Burden: 21,526 hours.

Estimated Average Burden Time per Respondent: 1 minute.

Frequency of Response: On Occasion.

Estimated Number of Respondents: 258,313.

By direction of the Secretary.
Maribel Aponte,
VA PRA Clearance Officer, Office of Enterprise and Integration, Data Governance Analytics, Department of Veterans Affairs.

[FR Doc. 2023-02981 Filed 2-10-23; 8:45 am]

BILLING CODE 8320-01-P